DEPARTMENT OF ENERGY

Federal Energy Regulatory Commission

Combined Notice of Filings

Take notice that the Commission has received the following Natural Gas Pipeline Rate and Refund Report filings:

Filings Instituting Proceedings

Docket Numbers: RP22-584-000.

Applicants: Florida Gas Transmission Company, LLC.

Description: § 4(d) Rate Filing: New Service Agreement—Seminole to be effective 4/1/2022.

Filed Date: 2/24/22.

Accession Number: 20220224-5080.

Comment Date: 5 p.m. ET 3/8/22.

Docket Numbers: RP22-585-000.

Applicants: Florida Gas Transmission Company, LLC.

Description: § 4(d) Rate Filing: Update Non-Conforming List—Seminole to be effective 4/1/2022.

Filed Date: 2/24/22.

Accession Number: 20220224-5082.

Comment Date: 5 p.m. ET 3/8/22.

Docket Numbers: RP22-586-000.

Applicants: Empire Pipeline, Inc.

Description: Compliance filing: Refund Report Jan-Dec 2021 (Per Settlement in RP18-940) to be effective N/A.

Filed Date: 2/24/22.

Accession Number: 20220224-5123.

Comment Date: 5 p.m. ET 3/8/22.

Docket Numbers: RP22-587-000.

Applicants: Tres Palacios Gas Storage LLC.

Description: Compliance filing: Tres Palacios Gas Storage Docket No. CP12-36 Updated Market Power Analysis to be effective N/A.

Filed Date: 2/24/22.

Accession Number: 20220224-5156.

Comment Date: 5 p.m. ET 3/8/22.

Docket Numbers: RP22-588-000.

Applicants: ANR Pipeline Company.

Description: § 4(d) Rate Filing: ANR Fuel Filing 2022 to be effective 4/1/2022.

Filed Date: 2/24/22.

Accession Number: 20220224-5160.

Comment Date: 5 p.m. ET 3/8/22.

Docket Numbers: RP22-589-000.

Applicants: Viking Gas Transmission Company.

Description: § 4(d) Rate Filing: Annual LMCRA—Spring 2022 to be effective 4/1/2022.

Filed Date: 2/25/22.

Accession Number: 20220225-5019.

Comment Date: 5 p.m. ET 3/9/22.

Docket Numbers: RP22-590-000.

Applicants: KPC Pipeline, LLC.

Description: § 4(d) Rate Filing: Fuel Reimbursement Adjustment to be effective 4/1/2022.

Filed Date: 2/25/22.

Accession Number: 20220225-5021.

Comment Date: 5 p.m. ET 3/9/22.

Docket Numbers: RP22-591-000.

Applicants: Gulf South Pipeline Company, LLC.

Description: § 4(d) Rate Filing: Cap Rel Neg Rate Agmts (Atlanta Gas 8438 releases eff 3-1-2022) to be effective 3/1/2022.

Filed Date: 2/25/22.

Accession Number: 20220225-5022.

Comment Date: 5 p.m. ET 3/9/22.

Docket Numbers: RP22-592-000.

Applicants: Guardian Pipeline, L.L.C.

Description: § 4(d) Rate Filing: EPCR Semi-Annual Adjustment—Spring 2022 to be effective 4/1/2022.

Filed Date: 2/25/22.

Accession Number: 20220225-5023.

Comment Date: 5 p.m. ET 3/9/22.

Docket Numbers: RP22-593-000.

Applicants: Millennium Pipeline Company, LLC.

Description: Compliance filing: Annual Report on Operational Transactions 2022 to be effective N/A.

Filed Date: 2/25/22.

Accession Number: 20220225-5027.

Comment Date: 5 p.m. ET 3/9/22.

Docket Numbers: RP22-594-000.

Applicants: Midwestern Gas Transmission Company.

Description: § 4(d) Rate Filing: Annual Fuel Retention Percentage Adjustment—2022 Rate to be effective 4/1/2022.

Filed Date: 2/25/22.

Accession Number: 20220225-5028.

Comment Date: 5 p.m. ET 3/9/22.

Docket Numbers: RP22-595-000.

Applicants: Viking Gas Transmission Company.

Description: § 4(d) Rate Filing: Semi-Annual Fuel and Loss Retention Adjustment—Spring 2022 to be effective 4/1/2022.

Filed Date: 2/25/22.

Accession Number: 20220225-5031.

Comment Date: 5 p.m. ET 3/9/22.

Docket Numbers: RP22-596-000.

Applicants: MoGas Pipeline LLC.

Description: Compliance filing: MoGas NAESB Compliance Filing to be effective 6/1/2022.

Filed Date: 2/25/22.

Accession Number: 20220225-5032.

Comment Date: 5 p.m. ET 3/9/22.

Docket Numbers: RP22-597-000.

Applicants: Northwest Pipeline LLC.

Description: § 4(d) Rate Filing: 2022 Summer Fuel Filing to be effective 4/1/2022.

Filed Date: 2/25/22.

Accession Number: 20220225-5048.

Comment Date: 5 p.m. ET 3/9/22.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

The filings are accessible in the Commission's eLibrary system (https://elibrary.ferc.gov/idmws/search/fercgensearch.asp) by querying the docket number.

eFiling is encouraged. More detailed information relating to filing requirements, interventions, protests, service, and qualifying facilities filings can be found at: http://www.ferc.gov/docs-filing/efiling/filing-req.pdf. For other information, call (866) 208-3676 (toll free). For TTY, call (202) 502-8659.

Dated: February 25, 2022.
Debbie-Anne A. Reese,
Deputy Secretary.

[FR Doc. 2022-04518 Filed 3-3-22; 8:45 am]

BILLING CODE 6717-01-P